DEPARTMENT OF THE INTERIOR

Bureau of Land Management

[COCO105863290; COC-080815]

Public Land Order No. 7939; Thompson Divide Withdrawal, Colorado

AGENCY: Bureau of Land Management (BLM), Interior.

ACTION: Public Land Order.

SUMMARY: This Public Land Order (PLO) withdraws 221,898.23 acres, including approximately 197,744.66 acres of National Forest System lands, approximately 15,464.99 acres of BLM-managed public lands, and approximately 8,688.58 acres of reserved Federal mineral interest, from all forms of entry, appropriation, and disposal under the public land laws; location and entry under the mining laws; and operation of the mineral leasing, mineral materials, and geothermal leasing laws, subject to valid existing rights, for a period of 20 years.

DATES: This PLO takes effect on April 8, 2024.

FOR FURTHER INFORMATION CONTACT: Jennifer Jardine, Bureau of Land Management, Colorado State Office, telephone: 970-385-1224, email: jjardine@blm.gov or BLM_CO_Thompson_Divide@blm.gov; or Elysia Retzlaff, United States Department of Agriculture Forest Service, Rocky Mountain Regional Office, telephone: 541-777-1355, email: elysia.retzlaff@usda.gov, during regular business hours, 8 a.m. to 4:30 p.m. Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of this withdrawal is to ensure the retention of the contiguous landscape, resulting in more efficient and effective administration of National Forest System and BLM-administered lands, and to protect the agricultural, ranching, wildlife, air quality, recreation, ecological, and scenic values of the Thompson Divide Area from further mineral development that could adversely impact these values and the local economies that depend on these values.

This PLO does not apply to the approximately 35,541.70 acres of non-Federal lands with no Federal interest within the boundaries of the area described herein. If the non-Federal lands within the area described in this Order are subsequently acquired by the United States, those lands will become subject to this withdrawal.

Order

By virtue of the authority vested in the Secretary of the Interior by section 204(c) of the Federal Land Policy and Management Act of 1976, 43 U.S.C. 1714(c), it is ordered as follows:

1. Subject to valid existing rights, the following described Federal lands and all non-Federal lands that are subsequently acquired by the Federal government, are hereby withdrawn from all forms of entry, appropriation, and disposal under the public land laws; location and entry under the United States mining laws; and operation of the mineral leasing, mineral materials, and geothermal leasing laws, for a 20-year term to ensure the retention of the contiguous landscape, resulting in more efficient and effective administration of National Forest System and BLM-administered lands, and to maintain, protect, and conserve agricultural, ranching, wildlife, air quality, recreation, ecological, and scenic values of the area from further mineral development that could adversely impact these values and the local economies that depend on these values.

National Forest System Lands

New Mexico Principal Meridian, Colorado

T. 51 N., R. 5 W.,

Secs. 7 and 18, unsurveyed;

Sec. 19, unsurveyed, that portion lying southwesterly of the South Smith Fork subwatershed boundary and westerly of the Crystal Creek subwatershed boundary;

Sec. 30, unsurveyed, that portion lying westerly of the Crystal Creek subwatershed boundary.

T. 50 N., R. 5½ W.,

Secs. 1, 2, and 11, those portions lying westerly of the Crystal Creek subwatershed boundary.

T. 51 N., R. 5½ W.,

Secs. 11 thru 14 and sec. 24;

Secs. 25 and 36, those portions lying westerly of the Crystal Creek subwatershed boundary.

T. 50 N., R. 6 W.,

Sec. 1;

Sec. 11, that portion lying easterly of the Gunnison/Montrose County boundary;

Secs. 12 and 13, those portions lying westerly of the Crystal Creek subwatershed boundary;

Sec. 14, that portion lying easterly of the Gunnison/Montrose County boundary and northerly of the Crystal Creek subwatershed boundary.

Sixth Principal Meridian, Colorado

T. 13 S., R. 86 W.,

Sec. 19, that portion lying easterly of the Raggeds Wilderness Area boundary;

Sec. 29, W½;

Sec. 30, excepting lot 21 and M.S. Nos. 3831, 3832, 4243, 4469, 4472, 4767, 4768, 5600, 7129, 8496, and 12805;

Sec. 32, N½.

T. 14 S., R. 86 W.,

Sec. 6, lots 4 thru 7;

Sec. 18, lots 3 and 4, E½SW¼, and SE¼;

Secs. 19 and 20;

Sec. 21, W½;

Sec. 26, SW¼;

Sec. 27;

Sec. 28, lots 1 thru 4, W½NE¼, E½NW¼, NW¼NW¼, E½SW¼, SW¼SW¼, and W½SE¼;

Sec. 29, NE¼NE¼, W½NE¼, W½, W½SE¼, and SE¼SE¼;

Sec. 30, lots 5 and 6, lots 11 thru 14, and lots 19 and 20;

Sec. 32, N½;

Sec. 33, lots 1 and 2, W½NE¼, and NW¼;

Sec. 34, N½;

Sec. 35, N½;

T. 13 S., R. 87 W.,

Sec. 20, unsurveyed, that portion lying southeasterly of the Raggeds Wilderness Area;

Sec. 21, unsurveyed, that portion lying southeasterly of the Raggeds Wilderness Area boundary, excepting M.S. Nos. 14344, 15668, 17918, and 17919;

Sec. 22, unsurveyed, that portion lying southwesterly of the Raggeds Wilderness Area boundary, excepting M.S. No. 2694;

Sec. 24, unsurveyed, those portions lying easterly of the Raggeds Wilderness Area boundary;

Sec. 25, unsurveyed, that portion lying easterly and southerly of the Raggeds Wilderness Area boundary, excepting M.S. Nos. 3831, 3832, and 4124;

Sec. 26, unsurveyed, that portion lying southerly of the Raggeds Wilderness Area boundary, excepting M.S. Nos. 1286 and 2721;

Sec. 27, unsurveyed, that portion lying southwesterly of the Raggeds Wilderness Area boundary, excepting M.S. Nos. 2701, 2703, 2813, 2814, 2867, 3440, 3466, 3728, 3729, 3804, 4149, 4421, 5146, 5322, 5511, 14392, and 17240;

Sec. 28, unsurveyed, that portion lying easterly of the Raggeds Wilderness Area boundary, excepting M.S. Nos. 1109, 1110, 1112, 2754, 2935, 3082, 3440, 3511, 3804, M.S. Nos. 4446 thru 4449, and M.S. Nos. 5146, 5147, 6382, 14344, 14392, 17240, 17919, and 20024;

Sec. 29, unsurveyed, that portion lying easterly and southerly of the Raggeds Wilderness Area boundary;

Secs. 30 thru 32, unsurveyed, those portions lying southerly of the Raggeds Wilderness Area boundary;

Sec. 33, unsurveyed, excepting M.S. Nos. 1156, 2731, 2935, 3470 A&B, 3471 A&B, 3716, 3804, 4445, 5146, 5147, 5870, and 20023, and S.T.A. No. 0441;

Sec. 34, unsurveyed, excepting M.S. Nos. 1156, 2702, 2703, 2731, 2786, 2801, 2814, 3466, 3467, 3716, 3737, 4421, 5146, 5342, 5511, 7123, the Irwin Townsite, and S.T.A. Nos. 0440, 0441, and 0442;

Sec. 35, unsurveyed, excepting M.S. Nos. 745, 1286, and 2693, M.S. Nos. 2695 thru 2700, and M.S. Nos. 2709, 2724, 3386, 3768, 4005, 4236, 4257, 4258, 4955, 5342, 5343, 5520, 7123, 8067, and 17714;

Sec. 36, unsurveyed, excepting Tract 37 and M.S. Nos. 2693, 2697, 2724, 2829, 2863, 3386, 3390, 4124, 7856, 17714, and 20926;

T. 14 S., R. 87 W.,

Sec. 1;

Sec. 2, excepting M.S. Nos. 745 and 1209, M.S. Nos. 2695 thru 2700, and M.S. Nos. 2989, 3137, 3768, 3801, 3802, 4257, 4955, 15096, and 19527;

Sec. 3, excepting M.S. Nos. 745, 1209, 1348, 3542, 3736 A, 3737, 4401, and 4955, and the Irwin Townsite;

Secs. 4 thru 8;

Sec. 9, N½;

Sec. 10, N½, N½SW¼, and SE¼;

Sec. 11, excepting M.S. Nos. 2989, 3801, and 15096;

Secs. 12 and 13;

Sec. 14, that portion lying northerly of the Coal Creek subwatershed boundary and that portion lying westerly of the Ruby Anthracite Creek subwatershed boundary and northerly of the West Elk Wilderness Area boundary;

Sec. 15, that portion lying northeasterly of the West Elk Wilderness Area boundary;

Sec. 23, that portion lying northerly of the Coal Creek subwatershed boundary;

Sec. 24.

T. 9 S., R. 88 W.,

Sec. 4, lot 2, W½, SW¼SE¼, and W½SE¼SE¼, partly unsurveyed;

Secs. 5 and 6, unsurveyed;

Sec. 7, unsurveyed, except H.E.S. No. 370;

Sec. 8, unsurveyed;

Sec. 9, NE¼, W½, and W½SE¼, partly unsurveyed, those portions lying westerly of the easterly ordinary high-water mark, an ambulatory line, of the Crystal River;

Sec. 16, NW¼, W½SW¼, and NW¼NW¼SE¼, partly unsurveyed, those portions lying westerly of the easterly ordinary high-water mark, an ambulatory line, of the Crystal River;

Sec. 17, unsurveyed;

Sec. 18, unsurveyed, excepting H.E.S. No. 370;

Sec. 19, unsurveyed;

Sec. 20, partly unsurveyed, that portion lying westerly of the easterly ordinary high-water mark, an ambulatory line, of the Crystal River;

Sec. 21, NW¼NW¼, and SW¼SW¼, those portions lying westerly of the easterly ordinary high-water mark, an ambulatory line, of the Crystal River, and a parcel of land as described in book 518, page 282, recorded on September 5, 1986, Pitkin County, Colorado; lying westerly of easterly ordinary high-water mark, an ambulatory line, of the Crystal River;

Sec. 29, N½NE¼ and W½, partly unsurveyed, those portions lying westerly of the easterly ordinary high-water mark, an ambulatory line, of the Crystal River;

Secs. 30 and 31, unsurveyed;

Sec. 32, S½NE¼, W½, and SE¼, partly unsurveyed, those portions lying westerly of easterly ordinary high-water mark, an ambulatory line, of the Crystal River;

Sec. 33, lots 12, 20, and 23, those portions lying westerly of easterly ordinary high-water mark, an ambulatory line, of the Crystal River.

T. 10 S., R. 88 W.,

Sec. 4, lot 5, SW¼NW¼, and W½SW¼;

Secs. 5 thru 7;

Sec. 8, that portion lying westerly of the easterly ordinary high-water mark, an ambulatory line, of the Crystal River;

Sec. 9, W½SW¼, that portion lying westerly of the easterly ordinary high-water mark, an ambulatory line, of the Crystal River;

Sec. 17, NW¼NE¼ and NW¼;

Sec. 18, lots 5 thru 10, NE¼, and E½NW¼;

Sec. 19, lots 1 thru 4, W½NE¼, SE1/NE¼, E½NW¼, E½SW¼, and SE¼;

Secs. 30 and 31, those portions lying westerly of easterly ordinary high-water mark, an ambulatory line, of the Crystal River.

T. 11 S., R. 88 W.,

Sec. 6, lots 1 thru 8, lots 10 thru 15, and lots 17 and 18, E½SW¼, and NW¼SE¼, those portions lying westerly of the easterly ordinary high-water mark, an ambulatory line, of the Crystal River, excepting those portions of lots 2, 7, and 10 not conveyed to the United States as described in special warranty deed in book 788, page 29, recorded on July 24, 1995, Pitkin County, Colorado;

T. 12 S., R. 88 W.,

Sec. 19, that portion lying southerly of the Raggeds Wilderness Area boundary;

Sec. 20, that portion lying southerly and westerly of the Raggeds Wilderness Area boundary;

Sec. 27, that portion lying westerly of the Raggeds Wilderness Area boundary;

Sec. 28, excepting the Raggeds Wilderness Area;

Sec. 29, that portion lying southerly and westerly of the Raggeds Wilderness Area boundary;

Sec. 30, lots 1 thru 4, NW¼NE¼, S½NE¼, E½NW¼, E½SW¼, and SE¼;

Sec. 31;

Secs. 32 and 33, those portions lying northwesterly of the Raggeds Wilderness Area boundary.

T. 13 S., R. 88 W.,

Sec. 6, lots 1 thru 5, lots 7 thru 14, and lots 16 thru 23, SE¼, E.S. No. 366 Tract A, and a parcel of land donated to the United States as described in book 259, page 348, recorded on December 1, 1936, Gunnison County, Colorado;

Sec. 7;

Sec. 17, partly unsurveyed, that portion lying southwesterly of the Raggeds Wilderness Area boundary;

Sec. 18;

Sec. 19, lot 7 and lots 9 thru 12, N½NE¼, N½SW¼NE¼, N½SE¼NE¼, SW¼SE¼, and W½SE¼SE¼;

Sec. 20, N½, E½SW¼, E½NE¼SW¼SW¼, E½SE¼SW¼SW¼, and SE¼, those portions lying southwesterly of the Raggeds Wilderness Area boundary;

Secs. 21, 22, 25, 26, and 27, those portions lying southerly of the Raggeds Wilderness Area boundary;

Sec. 28;

Sec. 29, E½, E½NW¼, E½NE¼NW¼NW¼, E½SW¼NW¼NW¼, SW¼SW¼NW¼NW¼, SE¼NW¼NW¼, SW¼NW¼, and SW¼;

Sec. 30, lots 1 thru 9 and lots 12, 13, and 14, W½NE¼NE¼, W½SE¼NE¼NE¼, SE¼SE¼NE¼NE¼, W½NE¼, SE¼NE¼, and SE¼;

Secs. 31 thru 34;

Sec. 35; that portion lying southwesterly of the Raggeds Wilderness Area boundary;

Sec. 36, that portion lying southerly of the Raggeds Wilderness Area boundary.

T. 14 S., R. 88 W.,

Secs. 1 thru 5, unsurveyed;

Sec. 6, unsurveyed, that portion lying northerly of the West Elk Wilderness Area boundary;

Secs. 7 and 8, unsurveyed, those portions lying northeasterly of the West Elk Wilderness Area boundary;

Secs. 9 and 10, unsurveyed, those portions lying northerly of the West Elk Wilderness Area boundary;

Secs. 11 and 12, unsurveyed;

Sec. 13, unsurveyed, that portion lying northeasterly of the West Elk Wilderness Area boundary;

Secs. 14 and 15, unsurveyed, those portions lying northerly of the West Elk Wilderness Area boundary;

Sec. 16, unsurveyed, that portion lying northeasterly of the West Elk Wilderness Area boundary.

T. 7 S., R. 89 W.,

Sec. 17, that portion lying easterly of the Fourmile Creek subwatershed boundary;

Sec. 19, those portions lying southerly of the Fourmile Creek subwatershed boundary;

Sec. 20, that portion lying southeasterly of the Fourmile Creek subwatershed boundary;

Sec. 21, N½NE¼, W½, and W½SE¼;

Sec. 28, N½, SW¼, N½SE¼, and SW¼SE¼;

Sec. 29;

Sec. 30, that portion lying southerly of the Fourmile Creek subwatershed boundary;

Sec. 31, lots 4, 5, 8, and 9, N½NE¼, N½SW¼NE¼, SE¼NE¼, N½NE¼NW¼, N½SW¼NE¼NW¼, SE¼SW¼NE¼NW¼, SE¼NE¼NW¼, N½NE¼SE¼NW¼, SE¼NE¼SE¼NW¼, E½NW¼SW¼, E½SW¼, and SE¼;

Sec. 32, NE¼NE¼, NE¼NW¼, W½NW¼, W½SW¼, SE¼SW¼, and SE¼;

Sec. 33, NW¼NE¼, NW¼NW¼, and SE¼SW¼.

T. 8 S., R. 89 W.,

Sec. 3, lots 1 and 2, S½NE¼, NW¼SW¼, and NE¼SE¼;

Sec. 4, lots 2, 3, and 4, SW¼NE¼, S½NW¼, and S½;

Secs. 5 thru 8;

Sec. 9, SE¼NE¼, NE¼NW¼, W½NW¼, and S½;

Sec. 10, W½NW¼ and NW¼SW¼;

Sec. 15, S½NW¼, N½SW¼, and SW¼SW¼;

Sec. 16, W½NE¼, SE¼NE¼, W½, and SE¼;

Sec. 17, NE¼, W½, and SW¼SE¼;

Secs. 18 and 19;

Sec. 20, W½NE¼, SE¼NE¼, W½, and SE¼;

Sec. 21;

Sec. 22, NW¼NW¼, S½NW¼, and SW¼;

Sec. 27, W½;

Sec. 28, E½ and S½SW¼;

Sec. 29, N½NE¼, N½SW¼NE¼, NW¼, S½NE¼SW¼SW¼, S½NW¼SW¼SW¼, S½SW¼SW¼, S½NE¼SE¼SW¼, S½NW¼SE¼SW¼, and S½SE¼SW¼;

Sec. 30, lots 1 thru 4, N½NE¼, E½NW¼, E½SW¼, and S½SE¼;

Secs. 31, 32, and 33;

Sec. 34, W½NW¼ and SW¼.

T. 9 S., R. 89 W.,

Sec. 1, lots 1 thru 4, S½NW¼, NW¼SW¼, S½SW¼, NE¼SE¼, and SW¼SE¼;

Sec. 2, lots 1 and 2, S½NE¼, and SE¼;

Sec. 3, lots 3 and 4, S½NW¼, and SW¼;

Secs. 4 thru 9;

Sec. 10, W½ and SE¼SE¼;

Sec. 11, NE¼, N½SE¼, and SE¼SE¼;

Sec. 12, W½NE¼, NW¼, and W½SE¼;

Sec. 13;

Sec. 14, E½NE¼, W½NW¼, W½SW¼, and E½SE¼;

Sec. 15, NE¼NE¼, S½NE¼, NW¼, and S½;

Secs. 16 and 17;

Sec. 18, that portion lying easterly of the Mesa/Pitkin County boundary;

Secs. 19 thru 22;

Sec. 23, E½NE¼, W½NW¼, and E½SE¼;

Secs. 24 and 25;

Sec. 26, E½NE¼ and SE¼;

Sec. 27, N½, N½SW¼, SW¼SW¼, and SE¼;

Secs. 28 thru 33;

Sec. 34, N½NE¼, W½NW¼, W½SW¼, SE¼SW¼, and NE¼SE¼;

Sec. 35, E½ and W½SW¼;

Sec. 36.

T. 10 S., R. 89 W.,

Sec. 1;

Sec. 2, lots 1 and 2, S½NE¼, SE¼NW¼, and S½;

Sec. 3, lots 3 and 4, S½NE¼, S½NW¼, and S½;

Sec. 4, lots 1 thru 4, SW¼NE¼, S½NW¼, SW¼, and SW¼SE¼;

Sec. 5 thru 9;

Sec. 10, N½, N½SW¼, N½SW¼SW¼, N½SW¼SW¼SW¼, N½SE¼SW¼SW¼, N½SE¼SW¼, N½SW¼SE¼SW¼, N½SE¼SE¼SW¼, N½NE¼SE¼, SW¼NE¼SE¼, W½SE¼NE¼SE¼, NE¼SE¼NE¼SE¼, NW¼SE¼, N½SW¼SE¼, N½SW¼SW¼SE¼, and N½SE¼SW¼SE¼;

Sec. 11, lots 1 thru 8, NW¼, N½SW¼, and a parcel of land as described in special warranty deed recorded under document No. 405835 on June 30, 1997, Pitkin County, Colorado;

Secs. 12, 13, and 14;

Sec. 15, SE¼NE¼NE¼, S½SW¼NE¼NE¼, S½SW¼NW¼NE¼, S½SE¼NW¼NE¼, S½NE¼, S½SW¼NW¼NW¼, S½SE¼NW¼NW¼, S½NW¼, and S½;

Secs. 16 thru 36.

T. 11 S., R. 89 W.,

Secs. 1 thru 6;

Sec. 9, N½NE¼NE¼, NW¼NE¼, N½SW¼NE¼, SW¼SW¼NE¼, SE¼SE¼NE¼, NW¼, W½NE¼SW¼, NW¼SW¼, S½SW¼, E½SE¼, and SW¼SE¼;

Sec. 10, E½, E½NW¼, SW¼NW¼, and SW¼;

Sec. 11;

Sec. 12, that portion lying westerly of the Grand Mesa, Uncompahgre, and Gunnison National Forests boundary and that portion lying northerly of the Gunnison/Pitkin County boundary;

Sec. 13, that portion lying westerly of the Grand Mesa, Uncompahgre, and Gunnison National Forests boundary;

Secs. 14, 15, 16, and 21;

Sec. 22, NE¼, W½, and N½SE¼;

Sec. 23, N½;

Sec. 24, NW¼;

Sec. 26, S½, unsurveyed, that portion lying westerly of Raggeds Wilderness Area boundary;

Sec. 27, NW¼, S½SW¼, and S½SE¼;

Secs. 28 and 33;

Sec. 34, that portion lying northwesterly of the Raggeds Wilderness Area boundary;

Sec. 35, unsurveyed, that portion lying westerly of the Raggeds Wilderness Area boundary.

T. 12 S., R. 89 W.,

Secs. 2 and 3, those portions lying westerly of the Raggeds Wilderness Area boundary;

Sec. 10;

Secs. 11, 12, and 13, those portions lying westerly of the Raggeds Wilderness Area boundary;

Secs. 14 and 23;

Sec. 24, that portion lying southwesterly and westerly of the Raggeds Wilderness Area boundary;

Sec. 25;

Sec. 26, E½.

T. 13 S., R. 89 W.,

Sec. 7, SE¼;

Sec. 8, lot 7, that portion lying southerly of Anthracite Creek, lots 11 thru 14, and W½SW¼;

Sec. 9, lot 9 and NW¼SW¼, those portions lying southerly of Anthracite Creek;

Secs. 13, 14, and 15;

Sec. 16, lots 1 thru 6 and S½;

Sec. 17, that portion lying easterly of the Anthracite Creek subwatershed boundary and that portion lying northwesterly of the Bear Creek-North Fork subwatershed boundary;

Sec. 18, that portion lying northeasterly of the Bear Creek-North Fork Gunnison River subwatershed boundary;

Secs. 20 and 21, those portions lying northeasterly of the Raven Gulch subwatershed boundary;

Secs. 22 and 23;

Sec. 24, W½NE¼, N½NW¼, NW¼NE¼SE¼, S½NE¼SE¼, and SE¼SE¼;

Sec. 25, NE¼NE¼, N½SE¼NE¼, SW¼SE¼NE¼, W½NW¼, N½SW¼, E½SW¼SW¼, SE¼SW¼, W½SE¼, N½NW¼NE¼SE¼, and SW¼NW¼NE¼SE¼, and SE¼SE¼SE¼, excepting H.E.S. No. 81;

Sec. 26, N½, SW¼, N½SE¼, and W½SW¼SE¼, excepting H.E.S. No. 81;

Sec. 27;

Sec. 28, that portion lying easterly of the Raven Gulch subwatershed;

Sec. 33, that portion lying easterly of the Raven Gulch subwatershed boundary;

Sec. 34;

Sec. 35, W½NW¼NE¼, S½NE¼, W½, and SE¼;

Sec. 36, E½, NE¼NW¼, E½NW¼NW¼, S½NW¼, and SW¼.

T. 14 S., R. 89 W.,

Sec. 1, that portion lying northerly of the West Elk Wilderness Area boundary;

Sec. 2;

Sec. 3, that portion lying northerly of the West Elk Wilderness Area boundary;

Sec. 4, lots 5, 6, and 7, S½NE¼, SE¼NW¼, E½SW¼, and SE¼, those portions lying easterly of the Raven Gulch subwatershed and northwesterly of the West Elk Wilderness Area boundary;

Sec. 9, N½NE¼, that portion lying northerly of the West Elk Wilderness Area boundary;

Sec. 10, lots 1, 2, 3, and 4, those portions lying easterly of the West Elk Wilderness Area boundary;

Sec. 11, lots 1 thru 4 and NE¼, those portions lying northwesterly of the West Elk Wilderness Area boundary;

Sec. 12, that portion lying northerly of the West Elk Wilderness Area boundary;

Sec. 14, lot 3, SW¼NW¼, and W½SW¼, those portions lying westerly of the West Elk Wilderness Area boundary;

Sec. 15, lot 1, SE¼NE¼, and E½SE¼, those portions lying easterly of the West Elk Wilderness Area boundary;

Sec. 22, that portion lying easterly of the West Elk Wilderness Area boundary;

Sec. 23, excepting the West Elk Wilderness Area;

Sec. 24, that portion lying southwesterly of the West Elk Wilderness Area boundary;

Sec. 25, excepting H.E.S. No. 266 and the West Elk Wilderness Area;

Sec. 26, that portion lying northerly of the West Elk Wilderness Area boundary;

Sec. 36, NE¼ and E½NW¼, excepting H.E.S. No. 266.

T. 8 S., R. 90 W.,

Secs. 1 and 2, unsurveyed;

Secs. 3 and 10, unsurveyed, those portions lying easterly of the Fourmile Creek subwatershed boundary;

Secs. 11 thru 14, unsurveyed;

Secs. 15, unsurveyed, that portion lying easterly of the Mesa/Pitkin County boundary and southerly of the Garfield/Pitkin County boundary, and that portion lying northerly of the Garfield/Pitkin County boundary and easterly of the Fourmile Creek subwatershed boundary;

Secs. 21, unsurveyed, that portion lying easterly of the Mesa/Pitkin County boundary;

Sec. 22, unsurveyed, that portion lying southeasterly of the Mesa/Pitkin County boundary;

Secs. 23 thru 27, unsurveyed;

Secs. 28 and 29, unsurveyed, those portions lying southeasterly of the Mesa/Pitkin County boundary;

Sec. 32, unsurveyed, that portion lying easterly of the Mesa/Pitkin County boundary;

Secs. 33 thru 36, unsurveyed.

T. 9 S., R. 90 W.,

Sec. 1, unsurveyed;

Secs. 2 thru 5 and Sec. 10, unsurveyed, those portions lying northerly of the Mesa/Pitkin County boundary;

Sec. 11, unsurveyed, those portions lying northerly and easterly of the Mesa/Pitkin County boundary;

Secs. 12 and 13, unsurveyed, those portions lying easterly of the Mesa County/Pitkin boundary;

Sec. 22, unsurveyed, that portion lying southeasterly of the Gunnison/Mesa County boundary;

Sec. 23, unsurveyed, that portion lying southerly of the Gunnison/Mesa County boundary;

Sec. 24, unsurveyed, that portion lying southeasterly of the Mesa/Pitkin County boundary and southeasterly of the Gunnison/Mesa County boundary;

Secs. 25 and 26, unsurveyed;

Secs. 27, 28, and 31, unsurveyed, those portions lying southeasterly of the Gunnison/Mesa County boundary;

Sec. 32, unsurveyed, that portion lying southerly of the Gunnison/Mesa County boundary;

Sec. 33, unsurveyed, that portion lying southeasterly of the Gunnison/Mesa County boundary;

Secs. 34, 35, and 36.

T. 10 S., R. 90 W.,

Secs. 1, 2, and 3;

Secs. 4 and 5, unsurveyed;

Sec. 6, unsurveyed, that portion lying southeasterly of the Gunnison/Mesa County boundary;

Secs. 7, 8, and 9, unsurveyed;

Secs. 10 thru 13;

Sec. 14, that portion lying northerly of the hydrographic divide between Rock Creek and Gooseberry Creek;

Sec. 15, that portion lying northerly of the hydrographic divide between Rock Creek and an unnamed tributary south of Rock Creek flowing in a northwesterly direction to Clear Fork;

Sec. 16, unsurveyed, that portion lying northwesterly of the Clear Fork Trail, closed National Forest System Road 844, and the hydrographic divide between Rock Creek and an unnamed tributary south of Rock Creek flowing in a northwesterly direction to Clear Fork;

Secs. 17 and 18, unsurveyed;

Sec. 19, unsurveyed, that portion lying northerly of the hydrographic divide between Baldy Creek and Battle Creek, and that portion lying northerly of the hydrographic divide between Baldy Creek and an unnamed tributary flowing in an easterly direction to Clear Fork;

Sec. 20, unsurveyed, that portion lying northerly of the hydrographic divide between Baldy Creek and an unnamed tributary flowing in an easterly direction to Clear Fork;

Sec. 21, unsurveyed, that portion lying northwesterly of closed National Forest System Road 844, excepting that portion lying southerly of the hydrographic divide between Baldy Creek and an unnamed tributary south of Baldy Creek flowing in an easterly direction to Clear Fork and said hydrographic divide's extension to closed National Forest Service Road 844;

Secs. 24, 25 and 36.

T. 11 S., R. 90 W.,

Sec. 1, lots 1, 2, 7, 8, 9, 10, 14, and 15 and W½SE¼;

T. 14 S., R. 90 W.,

Sec. 5, W½SW¼;

Sec. 6, lots 3, 4, and 5, and SE¼NW¼, excepting H.E.S. No. 204;

Sec. 8, W½ and S½SE¼, excepting H.E.S. Nos. 86, 87, and 104;

Sec. 9, S½SW¼;

Sec. 16, W½NE¼, W½, and SW¼SE¼;

Sec. 17, excepting H.E.S. Nos. 86 and 87;

Sec. 18, excepting H.E.S. Nos. 85 and 87;

Secs. 19 and 20;

Sec. 21, W½NE¼, W½, and SE¼;

Sec. 22, S½SW¼ and S½SE¼;

Sec. 27, that portion lying northerly and westerly of the West Elk Wilderness Area boundary;

Sec. 28;

Sec. 29, N½, N½SW¼, and SE¼;

Sec. 30, lot 1, N½NE¼, and NE¼NW¼.

T. 15 S., R. 90 W.,

Secs. 5 and 6, unsurveyed, those portions lying westerly of the West Elk Wilderness Area boundary;

Sec. 7, unsurveyed;

Secs. 8, unsurveyed, that portion lying westerly of the West Elk Wilderness Area boundary;

Sec. 16, unsurveyed, that portion lying southerly of the West Elk Wilderness Area boundary;

Sec. 17, unsurveyed, that portion lying westerly of the West Elk Wilderness Area boundary;

Secs. 18 and 19, unsurveyed;

Sec. 20, unsurveyed, that portion lying southwesterly of the West Elk Wilderness Area boundary, excepting H.E.S. No. 49;

Sec. 21, unsurveyed, that portion lying southerly of the West Elk Wilderness Area boundary;

Secs. 22 and 27, unsurveyed, those portions lying westerly of the West Elk Wilderness Area boundary;

Secs. 28 and 29, unsurveyed, excepting H.E.S. No. 49;

Sec. 30, unsurveyed, excepting H.E.S. No. 173;

Secs. 31, 32, and 33, unsurveyed;

Sec. 34, unsurveyed, that portion lying westerly of the West Elk Wilderness Area boundary.

T. 10 S., R. 91 W.,

Sec. 1, unsurveyed, that portion lying southerly of the Gunnison/Mesa County boundary and easterly of the of Gunnison/Delta County boundary;

Sec. 12, unsurveyed, that portion lying easterly of the Gunnison/Delta County boundary;

Secs. 13 and 24, unsurveyed, those portions lying easterly of the Gunnison/Delta County boundary and northeasterly of the hydrographic divide between Baldy Creek and the East Fork of Little Muddy Creek.

T. 14 S., R. 91 W.,

Secs. 13 and 24, those portions lying easterly of the Gunnison/Delta County boundary.

T. 15 S., R. 91 W.,

Secs. 1, 12, and 13, those portions lying easterly of the Gunnison/Delta County boundary;

Sec. 24, lots 1, 4, 5, and 13, those portions lying easterly of the Gunnison/Delta County boundary;

Sec. 25, S½SE¼NE¼NE¼, SE¼SE¼, E½SE¼, those portions lying easterly of the Gunnison/Delta County boundary;

Sec. 36, that portion lying easterly of the Gunnison/Delta County boundary.

The areas described aggregate 197,744.66 acres, more or less.

Public Lands

Sixth Principal Meridian, Colorado

T. 13 S., R. 86 W.,

Sec. 20, lots 1 thru 4 and SW¼.

T. 7 S., R. 88 W.,

Sec. 20, lot 3, that part lying westerly of the easterly ordinary high-water mark, an ambulatory line, of the Roaring Fork River;

Sec. 28, lot 29, that part lying southwesterly of the easterly ordinary high-water mark, an ambulatory line, of the Roaring Fork River.

T. 8 S., R. 88 W.,

Sec. 7;

Sec. 8, lots 3 thru 5, lots 8 thru 11, SW¼NE¼, SE¼NW¼, NE¼SW¼, and NW¼SE¼;

Sec. 9, E½SE¼;

Sec. 15, W½SW¼;

Sec. 16, S½;

Sec. 17, lots 2 thru 5 and lots 8 and 9, SE¼NW¼, E½SW¼;

Secs. 18 and 19;

Sec 20, lots 2 thru 8, SW¼NE¼, E½SW¼, and W½SE¼;

Sec. 21, lots 1 and 2 and NW¼;

Sec. 22, W½NW¼;

Sec. 28, W½NW¼, W½SW¼, and SE¼SW¼;

Secs. 29 thru 32;

Sec. 33, W½ and SE¼.

T. 6 S., R. 89 W.,

Sec. 28, SW¼SE¼, that part lying southerly of the Fourmile Creek subwatershed boundary

Sec. 33, W½NE¼, SE¼NE¼, and SE¼;

Sec. 34, SW¼SW¼.

T. 7 S., R. 89 W.,

Sec. 3, lot 1, SE¼NE¼, E½NW¼SE¼, E½W½NW¼SE¼, and E½SE¼;

Sec. 4, that part lying southerly and easterly of the Fourmile Creek subwatershed boundary;

Sec. 5, E½SE¼, that part lying southeasterly of the Fourmile Creek subwatershed boundary;

Sec. 9, NW¼NE¼, N½NW¼, E½SW¼, SW¼SE¼;

Sec. 11, W½NW¼NW¼ and SW¼NW¼;

Sec. 12, lot 22 and W½SW¼;

Sec. 13, NW¼;

Sec. 15, lots 16 and 17 and SW¼SW¼;

Sec. 16, NW¼NE¼, E½NW¼, NE¼SE¼, and S½SE¼;

Sec. 35, lot 7, SE¼NE¼, SE¼SW¼, and SE¼;

Sec. 36, S½NW¼ and SW¼.

T. 8 S., R. 89 W.,

Sec. 1, lots 1 thru 4, S½NE¼, S½SW¼, and SE¼;

Sec. 2, lots 1 thru 4, S½NE¼, S½NW¼, and N½SW¼;

Secs. 12, 13, and 24;

Sec. 25, N½, E½SW¼, and SE¼;

Sec. 26, E½NE¼ and SW¼NE¼;

Sec. 35, E½NE¼ and SE¼

Sec. 36.

T. 13 S., R. 89 W.,

Sec. 7, S½NE¼, that part lying southerly of the northerly ordinary high-water mark, an ambulatory line, of the North Fork of the Gunnison River;

Sec. 9, lot 10, that part lying southerly and easterly of the northwesterly ordinary highwater mark, an ambulatory line, of the Anthracite Creek;

Sec. 10, lots 11 thru 14.

T. 7 S., R. 90 W.,

Sec. 24, lot 3 and NW¼SE¼, those portions lying south of the Fourmile Creek subwatershed boundary;

Sec. 25, SE¼NW¼ and NE¼SW¼;

Sec. 26, E½SE¼, that part lying southeasterly of the Fourmile Creek subwatershed boundary;

Sec. 34, E½SE¼ and SW¼SE¼, that part lying south and east of the Fourmile Creek subwatershed boundary;

Sec. 35, E½, that part lying south and east of the Fourmile Creek subwatershed boundary;

Sec. 36, lot 4, W½SW¼, and SE¼SW¼.

T. 13 S., R. 90 W.,

Sec. 31, lots 5 thru 7 and lots 10 and 12.

T. 14 S., R. 90 W.,

Sec. 6, lots 1, 2, 6, and 7, S½NE¼, E½SW¼, and SE¼, except HES 104 and 204;

Sec. 7, except HES 87 and 104.

T. 13 S., R. 91 W.,

Sec. 25, lots 1, 9, and 16, those portions lying east of the Delta/Gunnison County line;

Sec. 36, lots 1, 8, and 9, those portions lying east of the Delta/Gunnison County line.

T. 14 S., R. 91 W.,

Sec. 1, E½SE¼, that portion lying east of the Delta/Gunnison County line;

Sec. 12, E½NE¼ and E½SE¼, those portions lying east of the Delta/Gunnison County line.

The areas described aggregate 15,464.99 acres, more or less.

Non-Federal Surface Lands, With Federal Subsurface Interest

New Mexico Principal Meridian, Colorado

T. 50 N., R. 6 W.,

Sec. 2, E½SE¼, that part lying east of the Montrose/Gunnison County boundary.

T. 51 N., R. 5.5 W.,

Sec. 26, lots 5 thru 8;

Sec. 35, lots 1 thru 8.

T. 51 N., R. 6 W.,

Sec. 11, lot 1, that part lying east of the Delta/Gunnison County boundary;

Sec. 12;

Sec. 13, N½NE¼, SW¼NE¼, E½NW¼;

Sec. 14, W½NE¼ and E½SE¼, those portions lying east of the Delta/Gunnison County boundary;

Sec. 23, E½NE¼, that part lying east of the Delta/Gunnison County boundary, and E½SE¼, that part lying east of the Delta and Montrose/Gunnison County boundary;

Sec. 24, SW¼NE¼ and NW¼;

Sec. 25, S½NE¼, S½NW¼, and S½;

Sec. 26, E½NE¼ and E½SE¼, those portions lying east of the Montrose/Gunnison County boundary;

Sec. 35, E½NE¼ and E½SE¼, those portions lying east of the Montrose/Gunnison County boundary;

Sec. 36.

Sixth Principal Meridian, Colorado

T. 8 S., R. 88 W.,

Sec. 8, lot 12;

Sec. 17, lots 1, 6, 7, and 10, SW¼NE¼, and W½SE¼;

Sec. 20, lot 1, NW¼NE¼, and E½NW¼;

Sec. 21, E½SW¼, W½SE¼, and NE¼SE¼;

Sec. 27, SW¼SE¼, that part lying westerly of the easterly ordinary high-water mark, an ambulatory line, of the Crystal River;

Sec. 28, W½NE¼, E½NW¼, NE¼SW¼, and W½SE¼;

Sec. 33, NE¼.

T. 6 S., R. 89 W.,

Sec. 34, SW¼SE¼;

T. 7 S., R. 89 W.,

Sec. 1, lots 26, 27, and 34, that part lying southwesterly of the northeasterly high-water mark, an ambulatory line, of the Roaring Fork River;

Sec. 2, lots 6, 7, and 17, NW¼SW¼, and S½SW¼;

Sec. 3, W½W½NW¼SE¼;

Sec. 11, NE¼, E½NW¼, E½NW¼NW¼, N½SW¼, SE¼SW¼, and SE¼;

Sec. 13, W½SW¼;

Sec. 14, E½, E½NW¼, and NW¼NW¼;

Sec. 15, lots 4 and 8 (other min.);

Sec. 23, lots 6, 7, 11, and 14 (other min.);

Sec. 24, NW¼SW¼ and S½SW¼;

Sec. 25, N½NW¼, SW¼NW¼, and W½SW¼;

Sec. 26 lot 14 and NE¼SE¼ (coal only);

Sec. 33, SW¼NE¼, E½NW¼, and NE¼SW¼;

Sec. 35, lots 1 and 2 (coal only);

Sec. 36, NW¼NW¼ (coal only).

T. 8 S., R. 89 W.,

Sec. 28, NE¼SW¼ (coal only).

T. 10 S., R. 89 W.,

Sec. 10, S½S½SW¼SW¼, S½S½SE¼SW¼, SE¼SE¼NE¼SE¼, S½S½SW¼SE¼, and SE¼SE¼;

Sec. 11, SW¼SW¼, except a parcel of land as described in special warranty deed recorded under document No. 405835 on June 30, 1997, Pitkin County, Colorado;

Sec. 15, N½NE¼NE¼, N½SW¼NE¼NE¼, N½NW¼NE¼, N½S½NW¼NE¼, NE¼NW¼, N½NW¼NW¼, and N½S½NW¼NW¼.

T. 11 S., R. 89 W.,

Sec. 9, S½NE¼NE¼, SE¼SW¼NE¼, N½SE¼NE¼, SW¼SE¼NE¼,

E½NE¼SW¼, and NW¼SE¼ (coal only);

Sec. 10, NW¼NW¼ (coal only).

T. 13 S., R. 89 W.,

Sec. 2, lot 36, that part lying southerly and easterly of the northwesterly ordinary highwater mark, an ambulatory line, of the Anthracite Creek;

Sec. 8, lot 2, N½NW¼, and SW¼NW¼, those portions lying southerly and southeasterly of the northerly and northwesterly ordinary high-water mark, an ambulatory line, of the North Fork of the Gunnison River;

Sec. 11, lot 1, lot 2, that part lying southerly and easterly of the northwesterly ordinary high-water mark, an ambulatory line, of the Anthracite Creek, lots 5 thru 9, SE¼NE¼, SE¼SW¼, NE¼SE¼, and S½SE¼;

Sec. 12.

T. 7 S., R. 90 W.,

Sec. 24, lot 4, E½SW¼, and SW¼SE¼, those portions lying south and east of the Fourmile Creek subwatershed boundary;

Sec. 25, lots 1 thru 4, W½NE¼, N½NW¼, SW¼NW¼, W½SW¼, SE¼SW¼, and W½SE¼, those portions lying southeasterly of the Fourmile Creek subwatershed boundary;

Sec. 34, SE¼NE¼, that part lying easterly of the Fourmile Creek subwatershed boundary;

Sec. 35, W½, that part lying southerly of the Fourmile Creek subwatershed boundary;

Sec. 36, lots 1 and 2, W½NE¼, NW¼, NE¼SW¼, W½SE¼.

T. 13 S., R. 91 W.,

Sec. 24, E½NE¼ and E½SE¼, those portions lying east of the Delta/Gunnison County boundary;

Sec. 25, lot 8, that part lying east of the Delta/Gunnison County boundary.

The areas described aggregate 8,688.58 acres, more or less.

Non-Federal Lands With No Surface or Sub-Surface Interest

New Mexico Principal Meridian, Colorado

T. 50 N., R. 6 W.,

Sec. 2, lot 1 and SE¼NE¼, those portions lying east of the Montrose/Gunnison County boundary.

Sixth Principal Meridian, Colorado

T. 13 S., R. 86 W.,

M.S. Nos. 3831, 3832, 4243, 4469, 4472, 4767, 4768, 5600, 7129, 8496 and 12805, those portions lying within Sec. 30.

T. 14 S., R. 86 W.,

Sec. 28, SW¼NW¼ and NW¼SW¼;

Sec. 29, SE¼NE¼ and NE¼SE¼.

T. 13 S., R. 87 W.,

M.S. Nos. 2694, 2721, and 2867, those portions lying southerly of the Raggeds Wilderness Area; M.S. Nos. 745, 1109, 1110, 1112, 1156, 1286, 2693, M.S. Nos. 2695 thru 2703, M.S. Nos. 2709, 2724, 2731, 2754, 2786, 2801, 2813, 2814, 2829, 2863, 2935, 3082, 3299, 3386, 3390, 3440, 3466, 3467, 3470 A&B, 3471 A&B, 3511, 3716, 3728, 3729, 3737, 3768, 3804, 3831, 3831, 4005, 4124, 4149, 4236, 4257, 4258, 4421, M.S. Nos. 4445 thru 4449, and M.S. Nos. 4955, 5146, 5147, 5322, 5342, 5343, 5511, 5520, 5870, 6382, 7123, 7856, 8067, 14344, 14392, 15668, 17240, 17714, 17918, 17919, 20023, 20024, and 20926;

Irwin Townsite;

S.T.A. Nos. 0440 thru 0442.

T. 14 S., R. 87 W.,

Sec. 9, S½;

Sec. 10, S½SW¼;

Sec. 15, NW¼;

Secs. 16 thru 18;

Sec. 20, N½NE¼ and NE¼NW¼;

M.S. Nos. 745, 1209, 1384, M.S. Nos. 2695 thru 2700, and M.S. Nos. 2989, 3137, 3542, 3736 A, 3737, 3768, 3801, 3802, 4257, 4401, 4257, 4955, 15096, and 19527;

Irwin Townsite.

T. 7 S., R. 88 W.,

Secs. 18, and 19, those portions lying westerly of the easterly ordinary high-water mark, an ambulatory boundary, of the Roaring Fork River;

Sec. 20, lots 2, 8, 9, 10, 13, 14, and 15, those portions lying westerly of the easterly ordinary high-water mark, an ambulatory boundary, of the Roaring Fork River;

Sec. 28, lots 11 thru 14, those portions lying westerly of the easterly ordinary high-water mark, an ambulatory boundary, of the Crystal River, and lot 25, that part lying westerly of the easterly ordinary high-water mark, an ambulatory boundary, of the Crystal River, and the easterly ordinary high-water mark, an ambulatory boundary, of the Roaring Fork River;

Sec. 29, that part lying westerly of the easterly ordinary high-water mark, an ambulatory boundary, of the Roaring Fork River;

Secs. 30 thru 32;

Sec. 33, that part lying westerly of the easterly ordinary high-water mark, an ambulatory boundary, of the Crystal River.

T. 8 S., R. 88 W.,

Secs. 3 and 4, those portions lying westerly of the easterly ordinary high-water mark, an ambulatory boundary, of the Crystal River;

Secs. 5 and 6;

Sec. 8, lots 1, 2, 6, and 7;

Sec. 9, N½, SW¼, and W½SE¼;

Sec. 10, that part lying westerly of the easterly ordinary high-water mark, an ambulatory boundary, of the Crystal River;

Sec. 15, lots 1 thru 10, lots 12 thru 15, and W½NW¼, those portions lying westerly of the easterly ordinary high-water mark, an ambulatory boundary, of the Crystal River;

Sec. 16, N½;

Sec. 21, NE¼, and SE¼SE¼;

Sec. 22, that part lying westerly of the easterly ordinary high-water mark, an ambulatory boundary, of the Crystal River, except the W½NW¼;

Sec. 27, lots 2 thru 8 and lots 11 thru 15, those portions lying westerly of the easterly ordinary high-water mark, an ambulatory boundary, of the Crystal River;

Sec. 28, E½NE¼ and E½SE¼;

Sec. 34, NW¼NE¼ and W½, those portions lying westerly of the easterly ordinary high-water mark, an ambulatory boundary, of the Crystal River.

T. 9 S., R. 88 W.,

Sec. 3, lot 4 and SW¼SW¼, those portions lying westerly of the easterly ordinary high-water mark, an ambulatory boundary, of the Crystal River;

Sec. 4, lot 1 and E½SE¼SE¼;

Sec. 9, E½SE¼, that part lying westerly of the easterly ordinary high-water mark, an ambulatory boundary, of the Crystal River;

Sec. 10, NW¼NW¼, that part lying westerly of the easterly ordinary high-water mark, an ambulatory boundary, of the Crystal River;

Sec. 16, N½NE¼, SW¼NE¼, E½SW¼, SW¼NW¼SE¼, and SW¼SE¼, those portions lying westerly of the easterly ordinary high-water mark, an ambulatory boundary, of the Crystal River;

Sec. 21, NE¼NW¼, that part lying westerly of the easterly ordinary high-water mark, an ambulatory boundary, of the Crystal River, SW¼NW¼, and a parcel of land as described in book 713, page 309, recorded on May 27, 1993, Pitkin County, Colorado;

Sec. 29, S½NE¼ and SE¼, those portions lying westerly of the easterly ordinary high-water mark, an ambulatory boundary, of the Crystal River;

Sec. 32, N½NE¼, that part lying westerly of the easterly ordinary high-water mark, an ambulatory boundary, of the Crystal River;

Sec. 33, lots 11 and 14, those portions lying westerly of the easterly ordinary high-water mark, an ambulatory boundary, of the Crystal River;

M.S. Nos. 5443 A&B;

H.E.S. No. 370.

T. 10 S., R. 88 W.,

Sec. 4, lot 3, SE¼NW¼, and E½SW¼, those portions lying westerly of the easterly ordinary high-water mark, an ambulatory boundary, of the Crystal River;

Sec. 9, N½NW¼ and SW¼NW¼, those portions lying westerly of the easterly ordinary high-water mark, an ambulatory boundary, of the Crystal River;

Sec. 17, E½NE¼, SW¼NE¼, and S½, those portions lying westerly of the easterly ordinary high-water mark, an ambulatory boundary, of the Crystal River;

Sec. 18, SE¼;

Sec. 19, NE¼NE¼;

Sec. 20, that portion lying westerly of the easterly ordinary high-water mark, an ambulatory boundary, of the Crystal River;

Sec. 29, NW¼ and W½SW¼, those portions lying westerly of the easterly ordinary high-water mark, an ambulatory boundary, of the Crystal River;

M. S. No. 5443 A.

T. 11 S., R. 88 W.,

Sec. 6, lots 2, 7 and 10, those portions not reconveyed to the United States as described in special warranty deed in book 788, page 29, recorded July 24, 1995, Pitkin County, Colorado, and lot 9, all those portions lying westerly of the easterly ordinary high-water mark, an ambulatory boundary, of the Crystal River;

Sec. 7, lot 1 and NE¼NW¼, those portions lying westerly of the easterly ordinary high-water mark, an ambulatory boundary, of the Crystal River and north of the Pitkin/Gunnison County boundary.

T. 12 S., R. 88 W.,

Sec. 30, NE¼NE¼.

T. 6 S., R. 89 W.,

Sec. 27, SW¼SW¼, that part lying southwesterly of Fourmile Creek subwatershed boundary;

Sec. 28, SE¼SW¼ and SE¼SE¼, those portions lying easterly and southerly of Fourmile Creek subwatershed boundary;

Sec. 33, NE¼NE¼ and W½, that part lying easterly of Fourmile Creek subwatershed boundary;

Sec. 34, N½, N½SW¼, SE¼SW¼, N½SE¼, and SE¼SE¼, those portions lying southerly and westerly of Fourmile Creek subwatershed boundary;

Sec. 35, that part lying southerly of the northerly ordinary high-water mark, an ambulatory line, of the Roaring Fork River;

Sec. 36, that part lying southerly of the northerly ordinary high-water mark, an ambulatory line, of the Roaring Fork River.

T. 7 S., R. 89 W.,

Sec. 1, that part lying westerly of the easterly ordinary high-water mark, an ambulatory line, of the Roaring Fork River, except lots 26, 27, and 34;

Sec. 2, lots 1 thru 5, lots 8 thru 16, and lots 18 thru 22;

Sec. 3, lots 2 thru 4, SW¼NE¼, S½NW¼, SW¼, and SW¼SE¼;

Sec. 8, that part lying southerly and easterly of the Fourmile Creek subwatershed boundary;

Sec. 9, lots 1 thru 7, NE¼NE¼, SW¼NE¼, S½NW¼, W½SW¼, and NW¼SE¼;

Sec. 10;

Sec. 11, SW¼SW¼;

Sec. 12, that part lying westerly of the easterly ordinary high-water mark, an ambulatory line, of the Roaring Fork River, except lot 22 and W½SW¼;

Sec. 13, lots 1 thru 16 and E½SW¼;

Sec. 14, SW¼NW¼ and SW¼;

Sec. 15, lots 1 thru 3, lots 5 thru 7, lots 9 thru 15, lots 18 thru 23, N½NE¼, SE¼NE¼, and NE¼ SE¼;

Sec. 16, lots 1 and 2, S½NE¼, W½NW¼, SW¼, NW¼SE¼;

Sec. 21, S½NE¼ and E½SE¼;

Sec. 22;

Sec. 23, lots 1 thru 5, lots 8 thru 10, lots 12 and 13, E½, N½NW¼, and SE¼NW¼;

Sec. 24, lots 1 and 2, NW¼NE¼, S½NE¼, NW¼, NE¼SW¼, SE¼;

Sec. 25, NE¼, SE¼NW¼, E½SW¼, and SE¼;

Sec. 26, lots 1 thru 13, lots 15 thru 18, NE¼, SW¼SW¼, and NW¼SE¼;

Sec. 27;

Sec. 28, SE¼SE¼;

Sec. 31, lots 2, 6, and 7, S½SW¼NE¼, SW¼SW¼NE¼NW¼, SW¼NE¼SE¼NW¼, NW¼SE¼NW¼, and S½SE¼NW¼;

Sec. 32, NW¼NE¼, S½NE¼, SE¼NW¼, and NE¼SW¼;

Sec. 33, E½NE¼, SW¼NW¼, W½SW¼, and SE¼;

Sec. 34;

Sec. 35, lots 3 thru 6, W½NW¼, N½SW¼, and SW¼SW¼;

Sec. 36, NE¼, NE¼NW¼, and SE¼.

T. 8 S., R. 89 W.,

Sec. 1, S½NW¼ and N½SW¼;

Sec. 2, S½SW¼ and SE¼;

Sec 3, lots 3 and 4, S½NW¼, NE¼SW¼, S½SW¼, NW¼SE¼, and S½SE¼;

Sec 4, lot 1 and SE¼NE¼;

Sec. 9, N½NE¼, SW¼NE¼, and SE¼NW¼;

Sec. 10, E½, E½NW¼, NE¼SW¼, and S½SW¼;

Secs. 11 and 14;

Sec. 15, E½, N½NW¼, and SE¼SW¼;

Sec. 16, NE¼NE¼;

Sec. 17, N½SE¼ and SE¼SE¼;

Sec. 20, NE¼NE¼;

Sec. 22, E½ and NE¼NW¼;

Sec. 23;

Sec. 25, W½SW¼;

Sec. 26, NW¼NE¼, NW¼, S½;

Sec. 27, E½;

Sec. 28, NW¼ and NW¼SW¼;

Sec. 29, S½SW¼NE¼, SE¼NE¼, N½SW¼, N½N½SW¼SW¼, N½N½SE¼SW¼, and SE¼;

Sec. 30, S½NE¼ and N½SE¼;

Sec. 34, E½ and E½NW¼;

Sec. 35, W½NE¼ and W½.

T. 9 S., R. 89 W.,

Sec. 1, S½NE¼, NE¼SW¼, NW¼SE¼, and SE¼SE¼;

Sec. 2, W½;

Sec. 3, E½;

Sec. 10, NE¼, N½SE¼, and SW¼SE¼;

Sec. 11, W½ and SW¼SE¼;

Sec. 12, E½NE¼, SW¼, and E½SE¼;

Sec. 14, W½NE¼, E½NW¼, E½SW¼, and W½SE¼;

Sec. 15, NW¼NE¼;

Sec. 23, W½NE¼, E½NW¼, SW¼, and W½SE¼;

Sec. 26, W½NE¼ and W½;

Sec. 27, SE¼SW¼;

Sec. 34, S½NE¼, E½NW¼, NE¼SW¼, NW¼SE¼, and S½SE¼;

Sec. 35, NW¼ and E½SW¼.

T. 10 S., R. 89 W.,

Sec. 2, lots 3 and 4 and SW¼NW¼;

Sec. 3, lots 1 and 2;

Sec. 4, SE¼NE¼, N½SE¼, and SE¼SE¼.

T. 7 S., R. 90 W.,

Sec. 36, lot 3.

T. 13 S., R. 90 W.,

Sec. 31, lot 9.

The areas described aggregate 221,898.23 acres of Federal land.

The areas described, including both Federal and non-Federal lands, aggregate approximately 257,439.93 acres.

2. The withdrawal made by this order does not alter the applicability of laws governing the use of public lands or National Forest System lands other than the public land laws, the mining laws, mineral leasing, mineral materials, and geothermal leasing laws.

3. This withdrawal will expire 20 years from the effective date of this Order, unless, as a result of a review conducted prior to the expiration date pursuant to section 204(f) of the Federal Land Policy and Management Act of 1976, 43 U.S.C. 1714(f), the Secretary determines that the withdrawal shall be extended.

(Authority: 43 U.S.C. 1714)

Dated: April 3, 2024.
Deb Haaland,
Secretary of the Interior.

[FR Doc. 2024-07384 Filed 4-5-24; 8:45 am]

BILLING CODE 3411-15-P